DEPARTMENT OF COMMERCE

Census Bureau

[Docket Number: 230829-0206]

RIN 0607-XC071

Qualifying Urban Areas for the 2020 Census; Correction

AGENCY: Census Bureau, Department of Commerce.

ACTION: Notice, corrections.

SUMMARY: On December 29, 2022, the Bureau of the Census (Census Bureau) published a Federal Register Notice listing the areas that qualified as urban areas based on the results of the 2020 Census. With this notice, the Census Bureau is correcting the list of urban areas and modifying the population, housing, and land area of a small number of urban areas where a processing error was discovered.

DATES: This notice is effective upon publication.

FOR FURTHER INFORMATION CONTACT: Rikki Wortham, Geography Division, U.S. Census Bureau, via email at geo.urban@census.gov or telephone at 301-763-1128.

SUPPLEMENTARY INFORMATION:

Corrections

In the Federal Register of December 29, 2022, in FR Doc 2022-28286, on page 80117, in the list of Urban areas, the Atlanta, GA Population is corrected from “4,999,259” to “5,100,112”, Housing is corrected from “1,998,084” to “2,035,642”, and Land Area is corrected from “2,450.5” to “2,553.1”. These corrections resolve a processing error and reflect the adjusted boundary between Atlanta, GA and Gainesville, GA urban areas.

In the Federal Register of December 29, 2022, in FR Doc 2022-28286, on page 80127, in the list of Urban areas, the Gainesville, GA Population is corrected from “265,218” to “164,365”, Housing is corrected from “100,455” to “62,897”, and Land Area is corrected from “251.7” to “149.1”. These corrections resolve a processing error and reflect the adjusted boundary between Atlanta, GA and Gainesville, GA urban areas.

In the Federal Register of December 29, 2022, in FR Doc 2022-28286, on page 80133, in the list of Urban areas, delete Laplace—Lutcher—Gramercy, LA and associated Population, Housing, and Land Area characteristics. This correction resolves a processing error and reflects the merger of this previously identified area with the New Orleans, LA Urban Area.

In the Federal Register of December 29, 2022, in FR Doc 2022-28286, on page 80138, in the list of Urban areas, the New Orleans, LA Population is corrected from “914,531” to “963,212”, Housing is corrected from “421,006” to “441,065”, and Land Area is corrected from “239.5” to “270.3”. These corrections resolve a processing error and reflect the merger of this area with the previously identified Laplace—Lutcher—Gramercy, LA Urban Area.

In the Federal Register of December 29, 2022, in FR Doc 2022-28286, on page 80144, in the list of Urban areas, the San Francisco—Oakland, CA Population is corrected from “3,269,385” to “3,515,933”, Housing is corrected from “1,288,912” to ” 1,391,873”, and Land Area is corrected from “428.7” to “513.8”. These corrections resolve a processing error and reflect the merger of this area with the previously identified San Rafael—Novato, CA Urban Area.

In the Federal Register of December 29, 2022, in FR Doc 2022-28286, on page 80144, in the list of Urban areas, delete San Rafael—Novato, CA and associated Population, Housing, and Land Area characteristics. This correction resolves a processing error and reflects the merger of this previously identified area with the San Francisco—Oakland, CA Urban Area.

Complete Errata and a list of 2020 Census Urban Area applications and products affected by these corrections can be found in the “2020 Census Urban Area Errata” on the Census Urban and Rural page: https://www.census.gov/programs-surveys/geography/guidance/geo-areas/urban-rural.html.

Robert L. Santos, Director, Census Bureau, approved the publication of this notice in the Federal Register.

Dated: September 5, 2023.
Shannon Wink,
Program Analyst, Policy Coordination Office, U.S. Census Bureau.

[FR Doc. 2023-19558 Filed 9-11-23; 8:45 am]

BILLING CODE 3510-07-P